DEPARTMENT OF COMMERCE

International Trade Administration

[Application No. 84-31A12]

Export Trade Certificate of Review

ACTION: Notice of Application for an Amended Export Trade Certificate of Review by Northwest Fruit Exporters, Application No. 84-31A12.

SUMMARY: The Office of Trade and Economic Analysis (“OTEA”) of the International Trade Administration, Department of Commerce, has received an application for an amended Export Trade Certificate of Review (“Certificate”). This notice summarizes the proposed amendment and requests comments relevant to whether the amended Certificate should be issued.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230; and to email at etca@trade.gov.

Information submitted by any person is exempt from disclosure under the Freedom of Information Act (5 U.S.C. 552). However, nonconfidential versions of the comments will be made available to the applicant if necessary for determining whether or not to issue the amended Certificate. Comments should refer to this application as “Export Trade Certificate of Review, application number 84-31A12.”

A summary of the application follows.

Summary of the Application

Applicant: Northwest Fruit Exporters, 105 South 18th Street, Suite 105, Yakima, WA 98901.

Contact: Fred Scarlett, Manager, (509) 453-3193.

Application No.: 84-31A12.

Date Deemed Submitted: July 8, 2020.

Proposed Amendment: Northwest Fruit Exporters seeks to amend its Certificate as follows:

1. Add the following company as a new Member of the Certificate within the meaning of section 325.2(l) of the Regulations (15 CFR 325.2(l)) for the following Export Product: Fresh sweet cherries:

• Griggs Farms Packing, LLC, Orondo, WA

2. Delete the following companies as Members of the Certificate:

• Peshastin Hi-Up Growers, Peshastin, WA

• Strand Apples, Inc., Cowiche, WA

3. Change the Export Product coverage for one Member:

• Stemilt Growers, LLC changes Export Product coverage from fresh sweet cherries, fresh apples, and fresh pears to fresh sweet cherries and fresh apples (dropping fresh pears)

Northwest Fruit Exporter's Proposed Amendment of its Certificate Would Result in the Following Membership List

1. Allan Bros., Naches, WA

2. AltaFresh L.L.C. dba Chelan Fresh Marketing, Chelan, WA

3. Apple House Warehouse & Storage, Inc., Brewster, WA

4. Apple King, L.L.C., Yakima, WA

5. Auvil Fruit Co., Inc., Orondo, WA

6. Baker Produce, Inc., Kennewick, WA

7. Blue Bird, Inc., Peshastin, WA

8. Blue Star Growers, Inc., Cashmere, WA

9. Borton & Sons, Inc., Yakima, WA

10. Brewster Heights Packing & Orchards, LP, Brewster, WA

11. Chelan Fruit Cooperative, Chelan, WA

12. Chiawana, Inc. dba Columbia Reach Pack, Yakima, WA

13. CMI Orchards LLC, Wenatchee, WA

14. Columbia Fruit Packers, Inc., Wenatchee, WA

15. Columbia Valley Fruit, L.L.C., Yakima, WA

16. Congdon Packing Co. L.L.C., Yakima, WA

17. Conrad & Adams Fruit L.L.C., Grandview, WA

18. Cowiche Growers, Inc., Cowiche, WA

19. CPC International Apple Company, Tieton, WA

20. Crane & Crane, Inc., Brewster, WA

21. Custom Apple Packers, Inc., Quincy, and Wenatchee, WA

22. Diamond Fruit Growers, Inc., Odell, OR

23. Domex Superfresh Growers LLC, Yakima, WA

24. Douglas Fruit Company, Inc., Pasco, WA

25. Dovex Export Company, Wenatchee, WA

26. Duckwall Fruit, Odell, OR

27. E. Brown & Sons, Inc., Milton-Freewater, OR

28. Evans Fruit Co., Inc., Yakima, WA

29. E.W. Brandt & Sons, Inc., Parker, WA

30. FirstFruits Farms, LLC, Prescott, WA

31. Frosty Packing Co., LLC, Yakima, WA

32. G&G Orchards, Inc., Yakima, WA

33. Gilbert Orchards, Inc., Yakima, WA

34. Griggs Farms Packing, LLC, Orondo, WA

35. Hansen Fruit & Cold Storage Co., Inc., Yakima, WA

36. Henggeler Packing Co., Inc., Fruitland, ID

37. Highland Fruit Growers, Inc., Yakima, WA

38. HoneyBear Growers LLC, Brewster, WA

39. Honey Bear Tree Fruit Co LLC, Wenatchee, WA

40. Hood River Cherry Company, Hood River, OR

41. JackAss Mt. Ranch, Pasco, WA

42. Jenks Bros Cold Storage & Packing, Royal City, WA

43. Kershaw Fruit & Cold Storage, Co., Yakima, WA

44. L & M Companies, Union Gap, WA

45. Legacy Fruit Packers LLC, Wapato, WA

46. Manson Growers Cooperative, Manson, WA

47. Matson Fruit Company, Selah, WA

48. McDougall & Sons, Inc., Wenatchee, WA

49. Monson Fruit Co., Selah, WA

50. Morgan's of Washington dba Double Diamond Fruit, Quincy, WA

51. Naumes, Inc., Medford, OR

52. Northern Fruit Company, Inc., Wenatchee, WA

53. Olympic Fruit Co., Moxee, WA

54. Oneonta Trading Corp., Wenatchee, WA

55. Orchard View Farms, Inc., The Dalles, OR

56. Pacific Coast Cherry Packers, LLC, Yakima, WA

57. Piepel Premium Fruit Packing LLC, East Wenatchee, WA

58. Pine Canyon Growers LLC, Orondo, WA

59. Polehn Farms, Inc., The Dalles, OR

60. Price Cold Storage & Packing Co., Inc., Yakima, WA

61. Pride Packing Company LLC, Wapato, WA

62. Quincy Fresh Fruit Co., Quincy, WA

63. Rainier Fruit Company, Selah, WA

64. Roche Fruit, Ltd., Yakima, WA

65. Sage Fruit Company, L.L.C., Yakima, WA

66. Smith & Nelson, Inc., Tonasket, WA

67. Stadelman Fruit, L.L.C., Milton-Freewater, OR, and Zillah, WA

68. Stemilt Growers, LLC, Wenatchee, WA

69. Symms Fruit Ranch, Inc., Caldwell, ID

70. The Dalles Fruit Company, LLC, Dallesport, WA

71. Underwood Fruit & Warehouse Co., Bingen, WA

72. Valicoff Fruit Company Inc., Wapato, WA

73. Washington Cherry Growers, Peshastin, WA

74. Washington Fruit & Produce Co., Yakima, WA

75. Western Sweet Cherry Group, LLC, Yakima, WA

76. Whitby Farms, Inc. dba: Farm Boy Fruit Snacks LLC, Mesa, WA

77. WP Packing LLC, Wapato, WA

78. Yakima Fresh, Yakima, WA

79. Yakima Fruit & Cold Storage Co., Yakima, WA

80. Zirkle Fruit Company, Selah, WA

Dated: July 20, 2020.
Joseph Flynn,
Director, Office of Trade and Economic Analysis, International Trade Administration, U.S. Department of Commerce.

[FR Doc. 2020-15987 Filed 7-22-20; 8:45 am]

BILLING CODE 3510-DR-P